DEPARTMENT OF ENERGY

Federal Energy Regulatory Commission

[Docket Nos. RP00-414-001, and RP01-15-002]

PG&E Gas Transmission, Northwest Corporation; Notice of Compliance

August 1, 2002.

Take notice that on July 29, 2002, PG&E Gas Transmission, Northwest Corporation (GTN) tendered for filing as part of its FERC Gas Tariff, Second Revised Volume No. 1, the tariff sheets listed on Appendix A to the filing, with an effective date of August 29, 2002.

GTN states that the tariff sheets are being filed to comply with the Commission's March 29, 2002 Order on Compliance with Order Nos. 637, 587-G and 587-L (“Compliance Order”), and requested that the Commission extend the date for GTN to comply with certain aspects of Order No. 637 until the first quarter of 2003.

GTN states that a copy of this filing has been served upon its customers and interested state regulatory commissions.

Any person desiring to protest said filing should file a protest with the Federal Energy Regulatory Commission, 888 First Street, NE., Washington, DC 20426, in accordance with Section 385.211 of the Commission's Rules and Regulations. All such protests must be filed on or before August 8, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-19931 Filed 8-6-02; 8:45 am]

BILLING CODE 6717-01-P